DEPARTMENT OF TRANSPORTATION

Federal Highway Administration

Environmental Impact Statement, Tappan Zee Hudson River Crossing Project (Rockland and Westchester Counties, NY)

AGENCY: Federal Highway Administration (FHWA), United States Department of Transportation (USDOT).

ACTION: Notice of Intent.

SUMMARY: The FHWA, as lead agency, is issuing this notice to advise the public that an Environmental Impact Statement (EIS) will be prepared for the proposed infrastructure improvements for the Tappan Zee Hudson River crossing in Rockland and Westchester Counties, New York.

The purpose of this revised NOI is to:

• Advise the public of FHWA serving lead agency;

• Provide information on the proposed project, purpose and need for the project, and alternatives to be considered;

• Invite participation in the EIS process, including comments on the scope of the EIS proposed in this notice; and

• Announce the date, times and locations of upcoming public briefings.

DATES: Public Scoping Briefings will be held from 4 p.m. to 9 p.m. on the following dates at the following locations:

• Westchester County Public Scoping Briefing: October 25, 2011; 4 p.m. to 9 p.m.; Doubletree Hotel Tarrytown, 455 South Broadway, Tarrytown, New York 10591.

• Rockland County Public Scoping Briefing: October 27, 2011; 4 p.m. to 9 p.m.; Palisades Center Adler Room, 1000 Palisades Center Drive, West Nyack, New York 10994.

Written comments on the scope of the EIS can be submitted by 5 p.m. on November 15, 2011.

ADDRESSES: Written comments on the scope of the EIS can be submitted to Michael P. Anderson, Project Director, New York State Department of Transportation, 4 Burnett Boulevard, Poughkeepsie, New York 12603

FOR FURTHER INFORMATION CONTACT: Michael P. Anderson, Project Director, New York State Department of Transportation, 4 Burnett Boulevard, Poughkeepsie, New York 12603, Telephone: (914) 358-0600; or Jonathan D. McDade, New York Division Administrator, Federal Highway Administration, Leo W. O'Brien Federal Building, 7th Floor, Room 719, Clinton Avenue and North Pearl Street, Albany, New York 12207, Telephone: (518) 431-4127.

SUPPLEMENTARY INFORMATION: The Environmental Impact Statement (EIS) will examine alternatives to improve the transportation infrastructure of the Tappan Zee Hudson River crossing.

1. Description of the Project Area

The Tappan Zee Bridge spans the Hudson River between South Nyack, Rockland County, New York and Tarrytown, Westchester County, New York.

The bridge is 3 miles long and is part of the United States Interstate Highway System, carrying a concurrent Interstate 87 and Interstate 287 designation.

Interstate 87 is a north-south primary route of the Interstate Highway System and links New York City and Montreal via Albany. Between New York City and Albany, Interstate 87 is part of the New York State Thruway, which is owned and operated by the New York State Thruway Authority. Interstate 287 is an auxiliary route of the Interstate Highway System and is a circumferential highway around New York City, beginning at the New Jersey Turnpike (Interstate 95) in Edison, New Jersey and ending at Interstate 95 in Port Chester, New York. Interstate 287 provides access between suburban communities and connects to the region's primary routes (Interstates 78, 80, 87, and 95) of the interstate highway system.

The Tappan Zee Bridge is the only crossing of the Hudson River for the 33-mile stretch between the George Washington Bridge (Interstate 95) to its south and the Bear Mountain Bridge (U.S. Routes 6 and 202) to its north. In addition to being an important through route for interstate traffic, the Tappan Zee Bridge is an important commuter corridor as it connects the rapidly growing communities of Rockland and Orange Counties, New York with employment centers in Westchester County.

2. Purpose and Need

The purpose of the project is to maintain a vital link in the regional and national transportation network by providing an improved Hudson River crossing between Rockland and Westchester Counties, New York. The project is intended to address the need to correct substandard structural, operational, mobility, safety, and security features of the existing Tappan Zee Hudson River crossing. Of particular concern to be examined is the structural integrity of the existing Tappan Zee Bridge and its ability to efficiently and cost-effectively provide for the region's long term infrastructure needs.

When opened to traffic in 1955, the Tappan Zee Bridge carried approximately 18,000 vehicles per day. Today, the bridge carries approximately 138,000 vehicles per day. During the past 20 years, traffic volumes have grown more than 70 percent on the Tappan Zee Bridge. Volumes are highest during the morning eastbound commute and the evening westbound commute, but the bridge is prone to severe congestion during non-commuter periods as well. To meet peak demand, the bridge operates with a reversible lane (i.e., 4 lanes eastbound and 3 lanes westbound in the morning peak period and 3 lanes eastbound and 4 lanes westbound in the evening peak period).

The Tappan Zee Bridge has average accident rates that are four times greater than for the whole 570-mile New York State Thruway system. It has non-standard highway safety features with lanes that are narrow (11 feet, 8 inches), no shoulders, and a narrow, barrier median. The Tappan Zee Bridge often operates at or near capacity and has no disabled vehicle lane or emergency access lane; thus, a breakdown or accident results in substantial traffic backups and delays.

The structural integrity and design of the bridge is also a serious concern. While the bridge's current condition is safe for the public, several deficiencies need to be addressed. The bridge is located in a moderate seismic zone and was not designed to current seismic standards. As the bridge continues to age, its maintenance has increased in frequency, severity, and cost. With repairs becoming increasingly more difficult and extensive, the ongoing maintenance of the bridge will be harder to undertake without major disruption to traffic operations.

As a result of these conditions, the EIS will evaluate alternatives that address the following project goals:

• Ensure the long-term vitality of this Hudson River Crossing;

• Improve transportation operations and safety on the crossing; and

• Maximize the use of the public investment in this Hudson River Crossing.

3. Alternatives

Since 2003, FHWA has considered multiple alternatives to maintain this river crossing between Westchester and Rockland Counties. Through rigorous technical and public review processes, FHWA has carefully considered the benefits and detriments of various design options. The list of alternatives and evaluations conducted to date will be presented for consideration during scoping. The EIS will consider all reasonable alternatives that meet the project purpose and need and are considered prudent options by the project sponsors, agencies, and the public during the scoping process.

4. Probable Effects

The EIS will consider in detail the potential environmental effects of the alternatives under consideration based on the current scoping efforts. The Draft EIS (DEIS) and Final EIS (FEIS) will summarize the results of coordination with federal, state, and local agencies and the public at large; present the appropriate federal, state, and local regulations and policies; inventory and compile previous studies pertinent to the project; describe the methodology used to assess impacts; identify and describe the affected environment; analyze and document the construction-related (short-term) and operational (long-term) environmental consequences (direct, indirect, and cumulative) of the project alternatives; and identify opportunities and measures that mitigate any identified adverse impacts. The specific scope of analysis and study areas used to undertake the analysis in the EIS will be established during the public and agency scoping process.

5. Scoping

In fall 2011, two public scoping briefings will be held, one in Westchester County and one in Rockland County, to solicit public comments on the scope of the EIS. Each meeting will run from 4 p.m. to 9 p.m. and consist of an informal open house and a formal presentation. The formal presentation will take place twice during each meeting, once at 5 p.m. and again at 7 p.m. After each presentation, the public will be provided the opportunity to comment on the scope of the EIS. Those wishing to speak must register by 5:30 p.m. or 7:30 p.m., respectively. A court reporter will be on hand to transcribe the formal presentation and public comments. The public scoping briefings will be held at the following locations, dates, and times:

• Westchester County Public Scoping Briefing: October 25, 2011; 4 p.m. to 9 p.m.; Doubletree Hotel Tarrytown, 455 South Broadway, Tarrytown, New York 10591.

• Rockland County Public Scoping Briefing: October 27, 2011; 4 p.m. to 9 p.m.; Palisades Center Adler Room, 1000 Palisades Center Drive, West Nyack, New York 10994.

The meetings will be accessible to persons with disabilities. If special services, such as an interpreter or sign language services, are needed, please contact Mr. Michael P. Anderson, New York State Department of Transportation.

Written comments on the scope of the EIS can be sent to Michael P. Anderson, Project Director, New York State Department of Transportation, 4 Burnett Boulevard, Poughkeepsie, New York 12603.

Comments on the scope of the EIS can be submitted by 5 p.m. on November 15, 2011.

6. FHWA Procedures

The EIS is being prepared in accordance with the National Environmental Policy Act of 1969 (NEPA), as amended, and implemented by the Council on Environmental Quality (CEQ) regulations (40 CFR Parts 1500 to 1508) and FHWA environmental impact regulations (23 CFR Part 771) and the FHWA statewide planning/metropolitan planning regulations (23 CFR Part 450) and Section 6002 of the Safe, Accountable, Flexible, Efficient Transportation Equity Act—A Legacy for Users (SAFETEA-LU) of 2005. This EIS will also comply with requirements of the Section 106 of the National Historic Preservation Act of 1966, as amended, Section 4(f) of the U.S. Department of Transportation Act of 1966, the 1990 Clean Air Act Amendments, the Rivers and Harbors Act of 1899, the Coastal Zone Management Act of 1972, Executive Order 12898 (Federal Actions to Address Environmental Justice in Minority and Low-Income Populations), Executive Order 11990 (Protection of Wetlands), and other applicable federal laws, rules, and regulations.

This EIS will also satisfy environmental review requirements of the New York State Environmental Quality Review Act (SEQRA; 6 NYCRR Part 617). Consistent with 6 NYCRR Part 617.15, this NOI eliminates the need for a positive declaration under SEQRA.

Regulations implementing NEPA as well as provisions of SAFETEA-LU call for enhanced agency and public involvement in the EIS process. An invitation to all Federal and non-Federal agencies and Native American tribes that may have an interest in the proposed project will be extended. In the event that an agency or tribe is not invited and would like to participate, please contract Michael P. Anderson at the contact information listed above. A Coordination Plan will be developed summarizing how the public and agencies will be engaged in the process. The plan will be posted to the project Web site (http://www.tzbsite.com). The public coordination and outreach efforts will include public meetings, open houses, a project Web site, stakeholder advisory and work groups, and public hearings.

The project sponsor may identify a locally preferred alternative in the DEIS when made available for public and agency comments. Public hearings on the DEIS will be held in Rockland and Westchester Counties. On the basis of the DEIS and the public and agency comments received, the Project Sponsor will identify the locally preferred alternative in the FEIS. The FEIS will serve as the basis for federal and state environmental findings and determinations needed to conclude the environmental review process.

(Catalog of Federal Domestic Assistance Program Number 20.205, Highway Planning and Construction. The regulations implementing Executive Order 12372 regarding intergovernmental consultation on Federal programs and activities apply to this program.)

Issued on October 12, 2011.
Jonathan D. McDade,
New York Division Administrator, Federal Highway Administration.

[FR Doc. 2011-26280 Filed 10-11-11; 8:45 am]

BILLING CODE 4910-22-P